DEPARTMENT OF THE INTERIOR

Fish and Wildlife Service

[FWS-R3-R-2011-N024; 30136-1265-0000-S3]

Swan Lake National Wildlife Refuge, Chariton County, MO; Final Comprehensive Conservation Plan and Finding of No Significant Impact for Environmental Assessment

AGENCY: Fish and Wildlife Service, Interior.

ACTION: Notice of availability.

SUMMARY: We, the U.S. Fish and Wildlife Service (Service), announce the availability of the Final Comprehensive Conservation Plan (CCP) and Finding of No Significant Impact (FONSI) for the Environmental Assessment (EA) for Swan Lake National Wildlife Refuge (NWR). Goals and objectives in the CCP describe how the agency intends to manage the refuge over the next 15 years.

ADDRESSES: Copies of the Final CCP and FONSI/EA may be viewed at the Swan Lake National Wildlife Refuge Office or at public libraries near the refuge. You may also request a copy by any of the following methods.

1. Agency Web site: View or download a copy of the document at http://www.fws.gov/midwest/planning/SwanLake/.

2. E-mail: r3planning@fws.gov. Include “Swan Lake Final CCP/EA” in the subject line of the message.

3. Mail: Swan Lake National Wildlife Refuge, 16194 Swan Lake Avenue, Sumner, MO 64681.

4. In Person: A limited number of hardcopies will be available for distribution at the Refuge Headquarters.

FOR FURTHER INFORMATION CONTACT: Steve Whitson, 660-856-3323.

SUPPLEMENTARY INFORMATION:

Introduction

With this notice, we complete the CCP process for Swan Lake NWR, which we began by publishing a notice of intent on (71 FR 20722, April 21, 2006). For more information about the initial process, see that notice. We released the draft CCP and EA to the public, announcing and requesting comments in a notice of availability (75 FR 30422) on June 1, 2010.

Swan Lake NWR was established in 1937 by Executive Order 7563 to serve as a refuge and breeding ground for migratory birds and other wildlife. The Refuge includes more than 11,000 acres and is also responsible for managing 57 easements and outlying fee-title tracts scattered across 15 counties in Missouri.

The Draft CCP and EA were officially released for public review on June 1, 2010, opening a 35-day comment period that ended on July 5, 2010. Planning information was sent to approximately 200 individuals, organizations, elected officials, and local, State, and Federal agencies, and an electronic copy of the Draft CCP and EA was made available on the Service's Web site. During the comment period, the Refuge also hosted an open house to receive public comments and feedback. An estimated 385 people attended the event and submitted more than 130 written comments. In total, more than 500 comments were received by the Service during the public review period. Based on comments received, a fourth alternative was developed, followed by another public comment period, which produced 50 additional comments and a number of minor changes to the fourth alternative.

Selected Alternative

Based on input and feedback during the planning process, alternative 4 was selected as the preferred alternative. The alternative maintains a mixture of woodland, wetland, and grassland habitats, with an emphasis on increasing native habitats such as prairie and wet meadow. Moist soil management would continue, and there would be additional study on methods for increasing the amount of native foods for waterfowl within a 2,100-acre reservoir on the Refuge. The alternative also calls for measuring Refuge water needs, identifying source water, and working with others to address watershed issues, including water quality and flooding. Monitoring migratory birds and threatened and endangered species would inform management actions to benefit these species. The introduction of duck hunting and small game hunting would add to existing wildlife-dependent recreation opportunities available on the Refuge.

Background

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation.

We will review and update the CCP at least every 15 years in accordance with the National Wildlife Refuge System Administration Act of 1966, as amended by the National Wildlife Refuge System Improvement Act of 1997, and the National Environmental Policy Act of 1969 (42 U.S.C. 4321-4370d).

Dated: February 24, 2011.
Charles M. Wooley,
Acting Regional Director, U.S. Fish and Wildlife Service, Fort Snelling, Minnesota.

[FR Doc. 2011-12411 Filed 5-19-11; 8:45 am]

BILLING CODE 4310-55-P